DEPARTMENT OF ENERGY

National Nuclear Security Administration

Amended Record of Decision for the Continued Operation of the Nevada National Security Site and Off-Site Locations in the State of Nevada

AGENCY: National Nuclear Security Administration, Department of Energy.

ACTION: Amended record of decision.

SUMMARY: The National Nuclear Security Administration (NNSA), a semi-autonomous agency within the United States Department of Energy (DOE), is issuing this amendment to the December 30, 2014, Record of Decision (ROD) for the Site-Wide Environmental Impact Statement for Continued Operation of the Department of Energy/National Nuclear Security Administration Nevada National Security Site and Off-Site Locations in the State of Nevada (DOE/EIS-0426) (SWEIS). In this Amended ROD (AROD), NNSA announces its decision to implement the actions and operations described in a 2024 Supplement Analysis (SA) to the earlier SWEIS. The SA assessed the potential environmental impacts of projects/changes that have occurred at the Nevada National Security Site (NNSS) and off-site locations in the State of Nevada, since publication of the SWEIS and ROD, or are expected to occur within approximately the next five years. Based on the analysis, NNSA determined that the potential impacts associated with the actions and operations evaluated in the SA: would not be significantly different than impacts presented in the SWEIS; would not constitute a substantial change to the actions evaluated in the SWEIS relevant to environmental concerns; there are no significant new circumstances or information relevant to environmental concerns; and no additional National Environmental Policy Act (NEPA) documentation is required at this time.

FOR FURTHER INFORMATION CONTACT: For further information on this AROD or the SA, contact: Ms. Patricia Gallo, NEPA Compliance Officer, NNSA Nevada Field Office, 232 Energy Way, North Las Vegas, Nevada, 89030; by phone at (702) 295-3211; or via email at patricia.gallo@nnsa.doe.gov. This AROD as well as the SA, SWEIS, and related NEPA documents are available at https://www.energy.gov/nnsa/nnsa-nepa-reading-room.

SUPPLEMENTARY INFORMATION:

Background

NNSA is responsible for meeting the national security requirements established by the President and the Congress to maintain and enhance the safety, reliability, and performance of the United States nuclear weapons stockpile. NNSS supports the NNSA nuclear Stockpile Stewardship and Management Plan (SSMP) mission as well as other DOE and NNSA programs, national security programs, and other Federal agency work. NNSA published a SWEIS in 2013 that analyzed the potential environmental impacts of continued management and operation of the NNSS. A ROD for the SWEIS was announced in the Federal Register (FR) on December 30, 2014 (79 FR 78421). Since publication of the 2014 ROD, NNSA has been conducting operations in accordance with the ROD, with no notable changes.

The 2024 Final Supplement Analysis of the Site-Wide Environmental Impact Statement for the Continued Operation of the Department of Energy/National Nuclear Security Administration Nevada National Security Site and Off-Site Locations in the State of Nevada (DOE/EIS-0426-SA-01) SA evaluation included the same four locations evaluated in the SWEIS: the NNSS, located approximately 65 miles northwest of Las Vegas, and three off-site locations in Nevada; the Tonopah Test Range (TTR), located north of the NNSS within the Nevada Test and Training Range; the North Las Vegas Facility (NLVF), located in North Las Vegas; and the Remote Sensing Laboratory-Nellis (RSL-Nellis), located at the Nellis Air Force Base north of Las Vegas.

The actions analyzed in the SA are consistent with the 2014 ROD. The actions and operations evaluated at the NNSS include modernization of site facilities and infrastructure, expansion of existing facility operations and experimentation at the Device Assembly Facility and the U1a Complex, expanded uncrewed aerial system operations, and construction and operation of a new waste disposal cell at the Radioactive Waste Management Complex. NNSA also proposed and evaluated actions to increase energy security and reduce greenhouse gas emissions at the NNSS by constructing solar projects, installing electric vehicle charging stations across the site, and transitioning to 100 percent zero-emission vehicle acquisitions by approximately 2035.

For the TTR, the SA evaluated operational changes and increased maintenance activities, but operations remain consistent with past operations. For the NLVF, the SA evaluated the potential construction and relocation of personnel and light laboratory spaces to a new campus in a planned industrial park that has not yet been built, referred to as the Northwest Las Vegas (NWLV) Campus. The NWLV Campus would replace some facilities at the NLVF, which are inefficiently designed, oversized, and outdated. The NWLV Campus would be located at a site that is approximately 12 to 15 miles northwest of the existing NLVF. NNSA did not identify any actions or notable changes in operations at RSL-Nellis; therefore, the SA did not analyze any changes at RSL-Nellis. A complete listing of the actions and operations evaluated for the NNSS and the off-site locations in the State of Nevada is found in Table 2-2 of the SA.

NEPA Process for This AROD

NNSA prepared the SA in accordance with the DOE NEPA implementing procedures at 10 CFR part 1021, to assess the potential environmental impacts of continued operations at the NNSS and off-site locations in the State of Nevada. The purpose of the SA is to determine if the actions evaluated in the SA constitute a substantial change to the actions evaluated in the 2013 SWEIS, if there are significant new circumstances or information relevant to environmental concerns, and whether a new or supplemental SWEIS or whether no further NEPA documentation is required. The SA focuses on the projects/changes that have occurred at the NNSS and the off-site locations in the State of Nevada since publication of the 2013 SWEIS and 2014 ROD or are expected to occur within approximately the next five years. The SA evaluates the impacts of these projects/changes against the impacts presented in the 2013 SWEIS.

Although publication of a Draft SA is not required, NNSA provided the Draft SA to the Nevada Division of Environmental Protection (NDEP), Nye and Clark County representatives, the American Indian Writers Subgroup, and the 16 tribes culturally affiliated with the NNSS. NNSA provided a 30-day review period for the Draft SA. During that review period, NNSA received one comment document from NDEP. The NDEP comments and NNSA's corresponding responses are provided in Appendix B of the Final SA.

Summary of Impacts

The SA analyzed the potential impacts of the actions and operations described in Table 2-2 of the SA on the following areas: land use; infrastructure and energy; transportation and traffic; socioeconomics; geology and soils; hydrology; biological resources; air quality, climate, and noise; visual resources; cultural resources; waste management; human health and safety; environmental justice; and accidents and intentional destructive acts. Impacts are presented for the NNSS (see Section 3.1 of the SA), TTR (see Section 3.2 of the SA), and the NLVF/NWLV Campus (see Section 3.3 of the SA). Section 4 of the SA presents the cumulative impacts.

Based on the analyses in the SA, NNSA determined that the potential impacts associated with the actions evaluated in the SA are not significantly different than impacts presented in the SWEIS. Consequently, NNSA determined that: (1) the actions evaluated in the SA do not constitute a substantial change to the actions evaluated in the 2013 SWEIS; (2) there are no significant new circumstances or information relevant to environmental concerns; and therefore (3) no further NEPA analysis or documentation is required at this time.

Environmentally Preferable Alternative

In the 2014 ROD, NNSA identified the Reduced Operations Alternative as the environmentally preferable alternative because fewer adverse impacts would result compared to the other alternatives. NNSA still believes the Reduced Operations Alternative is the environmentally preferable alternative.

Decision

The continued operation of NNSS is critical to NNSA's SSMP, to prevent the spread and use of nuclear weapons worldwide, and to other areas that impact national security and global stability. The primary mission supported by NNSS is ensuring the United States stockpile of nuclear weapons remains safe and reliable. Other activities conducted on the NNSS include experiments aimed at improving national nonproliferation objectives, arms control and treaty verification; weapons of mass destruction first responder training; experiments involving the controlled release and monitoring of hazardous material; remediation of legacy contamination sites; preparing waste for compliant disposition at the Waste Isolation Pilot Plant (WIPP) in Carlsbad, New Mexico, including waste that will be processed at the Idaho National Laboratory in Idaho Falls, Idaho, to meet the WIPP waste acceptance criteria; and disposal of low-level radioactive waste (LLW) and mixed LLW. NNSA will implement the actions and operations described in Table 2-2 of the SA. Implementing these actions and operations will enable NNSA to fulfill its responsibilities by properly considering economic, environmental, technical, and other factors.

Basis for Decision

In making this decision, NNSA considered the SA, the 2013 SWEIS, the 2014 ROD, and its statutory responsibilities to safeguard the nuclear weapons stockpile. Federal law and national security policies require NNSA to maintain and enhance the safety, reliability, and performance of the United States nuclear weapons stockpile and maintain a responsive nuclear weapons infrastructure that is cost-effective and has adequate capacity to meet foreseeable national security requirements. The NNSS and off-site locations in the State of Nevada support the NNSA nuclear stockpile stewardship and management mission as well as other DOE and NNSA programs, national security programs, and other Federal agency work. The SA provided the NNSA decision-maker with valuable information regarding the potential environmental impacts of the actions required to accomplish the national security mission and related programs. In addition to environmental information, NNSA also considered statutory responsibilities, strategic objectives, technical needs, safeguards and security, costs, and schedule in its decision-making.

This AROD documents NNSA's decision to continue operations at the NNSS and off-site locations in the State of Nevada and provides public notification of this decision. This decision enables NNSA to continue to meet its statutory obligations to safeguard the nuclear weapons stockpile and support the national security mission.

Mitigation Measures

No potential adverse impacts were identified that will require additional mitigation measures beyond those contained in the SWEIS, required by environmental laws, regulations, permits, and agreements, or achieved through design features or best management practices. Because no new potential adverse impacts were identified that will require additional mitigation measures, NNSA does not expect to prepare a Mitigation Action Plan.

Signing Authority

This document of the Department of Energy was signed on July 12, 2024, by Jill Hruby, Under Secretary for Nuclear Security and Administrator, NNSA, pursuant to delegated authority from the Secretary of Energy. The document with the original signature and date is maintained by DOE. For administrative purposes only, and in compliance with requirements of the Office of the Federal Register, the undersigned DOE Federal Register Liaison Officer has been authorized to sign and submit the document in electronic format for publication, as an official document of the DOE. This administrative process in no way alters the legal effect of this document upon publication in the Federal Register.

Signed in Washington, DC, on July 25, 2024.
Treena V. Garrett,
Federal Register Liaison Officer, U.S. Department of Energy.

[FR Doc. 2024-16689 Filed 7-29-24; 8:45 am]

BILLING CODE 6450-01-P